DEPARTMENT OF TRANSPORTATION

Federal Aviation Administration

14 CFR Part 71

[Airspace Docket No. 00-ASO-24]

Establishment of Class D Airspace; Oak Grove, NC

Correction

In Rule document 00-19853 appearing on page 48146 in the issue of Monday, August 7, 2000, make the following correction:

§71.1 [Corrected]

On page 48146, in the third column, in §71.1, under the heading “ASO NC D Oak Grove, NC [New]” in the 5th line, “1,5000 feet” should read “1,500 feet”.

[FR Doc. C0-19853 Filed 8-29-00; 8:45 am]

BILLING CODE 1505-01-D

DEPARTMENT OF TRANSPORTATION

Federal Aviation Administration

14 CFR Part 71

[Airspace Docket No. 00-ACE-24]

Amendment to Class E Airspace; Washington, MO

Correction

In rule document 00-20453 beginning on page 49192 in the issue of Friday, August 11, 2000, make the following correction:

§71.1 [Corrected]

On page 49193, in the third column, in Paragraph 6005, in the seventh line, “Lat. 38°35′30″ N., long. 90°50′51″ W.” should read “Lat. 38°35′30″ N., long. 90°59′51″ W.”

[FR Doc. C0-20453 Filed 8-29-00; 8:45 am]

BILLING CODE 1505-01-D